DEPARTMENT OF HEALTH AND HUMAN SERVICES

Health Resources And Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Needs Assessment of the Black Lung Clinics Program: NEW

The Bureau of Primary Health Care (BPHC), Health Resources and Services Administration (HRSA), is planning to conduct a needs assessment of the Black Lung Clinics Program. The purpose of this study is to obtain data about the Black Lung Clinics Program grantees/sites and the services they provide to active and retired coal miners. The study consists of two sections: (1) A written and telephone survey of the site Program Coordinators about the patients and the services they provide, as well as services that patients would like to receive, but which are not available; and, (2) a measurement of the costs associated with delivering requisite services to this population, for whom data will be obtained from secondary sources. The data collected will provide policymakers with a better understanding of the resources needed to continue to support and expand the program. The assessment will provide new information about the organization, financing, and delivery of services to active and retired coal miners in Black Lung Clinics Programs.

Data from the survey and costing will provide quantitative information about the programs, specifically: (a) The characteristics of the patients they serve, (b) the organization components of the program, (c) the scope of services provided, (d) the costs and resources necessary to implement the program, (e) outreach services available, and (f) key unmet needs. This assessment will provide data useful to the program and will enable HRSA to provide data required by Congress under the Government Performance and Results Act of 1993.

The estimated burden is as follows:

Form name | Number of respondents | Responses per respondent | Hours per response | Total burden hours
Survey | 52 | 1 | 8 | 416

Send comments to Susan G. Queen, Ph.D., HRSA Reports Clearance Officer, Room 14-22, Parklawn Building, 5600 Fishers Lane, Rockville, MD 20857. Written comments should be received within 60 days of this notice.

Dated: October 15, 2001.
Jane M. Harrison,
Director, Division of Policy Review and Coordination.

[FR Doc. 01-26317 Filed 10-18-01; 8:45 am]

BILLING CODE 4165-15-P